DEPARTMENT OF ENERGY

Federal Energy Regulatory Commission

Combined Notice of Filings #2

Take notice that the Commission received the following exempt wholesale generator filings:

Docket Numbers: EG17-78-000.

Applicants: 83WI 8me.

Description: Notice of Self-Certification of Exempt Wholesale Generator Status of 83WI 8me.

Filed Date: 3/17/17.

Accession Number: 20170317-5063.

Comments Due: 5 p.m. ET 4/7/17.

Take notice that the Commission received the following electric rate filings:

Docket Numbers: ER17-1236-000.

Applicants: PJM Interconnection, L.L.C.

Description: § 205(d) Rate Filing: Revisions to OATT Sch 12—Appdx A re: RTEP Projects Approved by Board in Feb 2017 to be effective 6/15/2017.

Filed Date: 3/17/17.

Accession Number: 20170317-5064.

Comments Due: 5 p.m. ET 4/7/17.

Docket Numbers: ER17-1239-000.

Applicants: Public Service Company of New Mexico.

Description: § 205(d) Rate Filing: Modifications to NITSA/NOA between PNM and Navajo Tribal Utility to be effective 3/1/2017.

Filed Date: 3/17/17.

Accession Number: 20170317-5074.

Comments Due: 5 p.m. ET 4/7/17.

Docket Numbers: ER17-1241-000.

Applicants: Deerfield Wind, LLC.

Description: Baseline eTariff Filing: Baseline new to be effective 5/16/2017.

Filed Date: 3/17/17.

Accession Number: 20170317-5102.

Comments Due: 5 p.m. ET 4/7/17.

Docket Numbers: ER17-1242-000.

Applicants: Tule Wind LLC.

Description: Baseline eTariff Filing: Baseline new to be effective 5/16/2017.

Filed Date: 3/17/17.

Accession Number: 20170317-5103.

Comments Due: 5 p.m. ET 4/7/17.

Docket Numbers: ER17-1243-000.

Applicants: Twin Buttes Wind II LLC.

Description: Baseline eTariff Filing: Baseline new to be effective 5/16/2017.

Filed Date: 3/17/17.

Accession Number: 20170317-5104.

Comments Due: 5 p.m. ET 4/7/17.

Docket Numbers: ER17-1244-000.

Applicants: Chambersburg Energy, LLC.

Description: § 205(d) Rate Filing: Reactive Service Rate Schedule Filings to be effective 12/31/9998.

Filed Date: 3/17/17.

Accession Number: 20170317-5125.

Comments Due: 5 p.m. ET 4/7/17.

Docket Numbers: ER17-1245-000.

Applicants: Gans Energy, LLC.

Description: § 205(d) Rate Filing: Reactive Service Rate Schedule Filings to be effective 12/31/9998.

Filed Date: 3/17/17.

Accession Number: 20170317-5126.

Comments Due: 5 p.m. ET 4/7/17.

Docket Numbers: ER17-1246-000.

Applicants: Springdale Energy, LLC.

Description: § 205(d) Rate Filing: Reactive Service Rate Schedule Filings to be effective 12/31/9998.

Filed Date: 3/17/17.

Accession Number: 20170317-5127.

Comments Due: 5 p.m. ET 4/7/17.

Docket Numbers: ER17-1247-000.

Applicants: PJM Interconnection, L.L.C.

Description: § 205(d) Rate Filing: Original Service Agreement No. 4656; Queue No. AA1-138 to be effective 2/15/2017.

Filed Date: 3/17/17.

Accession Number: 20170317-5145.

Comments Due: 5 p.m. ET 4/7/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2017.
Nathaniel J. Davis, Sr.,
Deputy Secretary.

[FR Doc. 2017-05820 Filed 3-22-17; 8:45 am]

BILLING CODE 6717-01-P